DEPARTMENT OF ENERGY

Federal Energy Regulatory Commission

[Docket No. ER15-402-001; Docket No. ER15-817-000; Docket No. ER15-861-000]

California Independent System Operator Corporation; Notice of Ferc Staff Attendance

The Federal Energy Regulatory Commission (Commission) hereby gives notice that on the following dates members of its staff will attend teleconferences and meetings to be conducted by the California Independent System Operator (CAISO). The agenda and other documents for the teleconferences and meetings are available on the CAISO's Web site, www.caiso.com.

January 30, 2015 Energy Imbalance Market Year 1 Enhancements

February 5, 2015 Board of Governors Meeting

February 5, 2015 Market Update

Sponsored by the CAISO, the teleconferences and meetings are open to all market participants and staff's attendance is part of the Commission's ongoing outreach efforts. The teleconferences and meetings may discuss matters at issue in the above captioned dockets.

FOR FURTHER INFORMATION CONTACT: Saeed Farrokhpay at saeed.farrokhpay@ferc.gov, (916) 294-0322.

Dated: January 29, 2015.
Kimberly D. Bose,
Secretary.

[FR Doc. 2015-02295 Filed 2-4-15; 8:45 am]

BILLING CODE 6717-01-P